DEPARTMENT OF TRANSPORTATION

Federal Highway Administration

First Tier Environmental Impact Statement: Jackson County, MO

AGENCY: Federal Highway Administration (FHWA), DOT.

ACTION: Notice of intent.

SUMMARY: The FHWA is issuing this notice to advise the public that a First Tier Environmental Impact Statement (EIS) will be prepared for proposed improvements to I-70 from the end of the last ramp termini east of the Missouri and Kansas state line to east of the I-470 interchange, including the entire Kansas City Downtown Central Business District (CBD) Freeway Loop, in Jackson County, Missouri.

FOR FURTHER INFORMATION CONTACT: Ms. Peggy J. Casey, Environmental Projects Engineer, FHWA Division Office, 3220 West Edgewood, Suite H, Jefferson City, MO 65109, Telephone: (573) 636-7104; or Mr. Kevin Keith, Chief Engineer, Missouri Department of Transportation, P.O. Box 270, Jefferson City, MO 65102, Telephone: (573) 751-2803.

SUPPLEMENTARY INFORMATION: The FHWA, in cooperation with the Missouri Department of Transportation (MoDOT), will prepare a First Tier EIS to consider the impacts of improvements to I-70 from the end of the last ramp termini east of the Missouri and Kansas state line to east of the I-470 interchange, including the entire Kansas City downtown CBD freeway loop, in Jackson County, Missouri. The project length is approximately 18 miles (20 miles with freeway loop segments).

MoDOT, in partnership with Mid-America Regional Council (MARC), and the Kansas City Area Transportation Authority (KCATA), completed a Major Investment Study (MIS) for the I-70 corridor in Jackson County in November, 2004. The MIS evaluated the I-70 corridor in a general nature and recommended an improvement strategy that would reconstruct and widen the existing facility from Kansas City's downtown CBD freeway loop to the Route F/H interchange in Oak Grove, Missouri. This strategy also included redesigning access and interchanges for the entire CBD freeway loop.

FHWA and MoDOT are now preparing a First Tier EIS to develop an improvement strategy for the highway elements of the I-70 corridor, using the MIS Statement of Purpose and Need and Strategy Packages as the foundation. The First Tier EIS will coordinate with completed and ongoing studies. These studies include the I-70 Transit Alternatives Analysis; the Kansas City, Missouri's Downtown CBD Study; the I-29/I-35 Paseo Bridge Corridor EIS; the I-470 Purpose and Need study; and the I-70 Supplemental EIS study.

Strategies to be considered include (1) no build; (2) highway widening and interchange improvement strategies; and (3) transportation system management options. The First Tier EIS will seek to determine sections of independent utility over this 18-mile stretch of I-70 that will become the basis for second tier environmental studies (20 miles with the freeway loop segments).

The First Tier EIS will conform to the environmental review process as established in Section 6002 of the Safe, Accountable, Flexible, Efficient, Transportation Equity Act: A Legacy for Users (SAFETEA-LU). The Section 6002 environmental review process requires the following activities: Identification and invitation of cooperating and participating agencies; establishment of a coordination plan; and opportunities for additional agency and public comment on the project's purpose and need, strategies, and methodologies for determining impacts.

As part of the scoping process, an interagency coordination meeting will be held with federal and state resource agencies and local agencies. In addition, informational meetings with the public and community representatives will be held to solicit input on the project. The Study Management Team from the I-70 MIS will be re-established and will consist of agency staff from MoDOT, MARC, KCAT, and other identified local participating agencies. A location public hearing will be held to present the findings of the Draft First Tier EIS. Public notice will be given announcing the time and place of all public meetings and the hearing. The Draft First Tier EIS will be available for public and agency review and comment prior to the public hearing.

To ensure that the full range of issues related to this proposed action is addressed and all significant issues are identified, comments and suggestions are invited from all interested parties. Comments and questions concerning this proposed action and the First Tier EIS should be directed to the FHWA or MoDOT at the addresses provided above. Concerns in the study area include potential impacts to communities, cultural resources, and rivers.

(Catalog of Federal Domestic Assistance Program Number 20.205, Highway Planning and Construction. The regulations implementing Executive Order 12372 regarding intergovernmental consultation on Federal programs and activities apply to this program.)

Issued on: June 27, 2008.
Peggy J. Casey,
Environmental Project Engineer, Jefferson City.

[FR Doc. E8-15611 Filed 7-8-08; 8:45 am]

BILLING CODE 4910-22-P